INTERNATIONAL TRADE COMMISSION

[Investigation No. 337-TA-1037]

Certain Graphic Processors, DDR Memory Controllers, and Products Containing the Same; Termination of Investigation on the Basis of Settlement

AGENCY: U.S. International Trade Commission.

ACTION: Notice.

SUMMARY: Notice is hereby given that the U.S. International Trade Commission has determined not to review the presiding administrative law judge's (“ALJ”) initial determination (“ID”) (Order No. 26) terminating the investigation on the basis of settlement.

FOR FURTHER INFORMATION CONTACT: Sidney A. Rosenzweig, Office of the General Counsel, U.S. International Trade Commission, 500 E Street SW., Washington, DC 20436, telephone (202) 708-2532. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at https://www.usitc.gov. The public record for this investigation may be viewed on the Commission's electronic docket (EDIS) at https://edis.usitc.gov. Hearing-impaired persons are advised that information on this matter can be obtained by contacting the Commission TDD terminal on (202) 205-1810.

SUPPLEMENTARY INFORMATION: The Commission instituted this investigation on January 24, 2017, based on a complaint filed by ZiiLabs Inc. of Hamilton, Bermuda (“ZiiLabs”). 82 FR 8207 (Jan. 24, 2017). The complaint alleged violations of section 337 of the Tariff Act of 1930, as amended, 19 U.S.C. 1337, by reason of infringement of certain claims of four United States Patents. Id. The notice of investigation named seventeen respondents: Advanced Micro Devices, Inc. of Sunnyvale, California; Lenovo Group Ltd. of Beijing, China, Lenovo Holding Co., Inc. and Lenovo (United States) Inc., both of Morrisville, North Carolina; LG Electronics, Inc. of Seoul, Republic of Korea; LG Electronics U.S.A., Inc. of Englewood Cliffs, New Jersey; LG Electronics MobileComm U.S.A. of San Diego, California; MediaTek, Inc. of Hsinchu City, Taiwan; MediaTek USA Inc. of San Jose, California; Motorola Mobility LLC of Libertyville, Illinois; Qualcomm Inc. of San Diego, California; Sony Corporation of Tokyo, Japan; Sony Corporation of America of New York, New York; Sony Electronics, Inc. of San Diego, California; Sony Mobile Communications (USA) Inc. of San Mateo, California; Sony Computer Entertainment Inc. of Tokyo, Japan; and Sony Interactive Entertainment LLC of San Mateo, California. The Office of Unfair Import Investigations was also named as a party.

The investigation has previously been terminated as to Lenovo Group Ltd. and MediaTek USA Inc. Order No. 7 (Feb. 28, 2017), not reviewed, Notice (Mar. 22, 2017) (Lenovo Group Ltd.); Order No. 21 (June 19, 2017), reviewed in part, Notice (July 10, 2017) (MediaTek USA Inc.).

On August 9, 2017, ZiiLabs moved to terminate the investigation based upon settlement. See 19 CFR 210.21(b). The respondents did not oppose the motion, and the Commission investigative attorney responded in support of the motion. On August 28, 2017, the ALJ granted the motion as the subject ID (Order No. 26). The ID finds that the motion complies with Commission Rules, and that granting the motion would not be contrary to the public interest. ID at 2-3; see 19 CFR 210.50(b)(2).

No petitions for review of the ID were filed. The Commission has determined not to review the ID.

The authority for the Commission's determination is contained in section 337 of the Tariff Act of 1930, as amended (19 U.S.C. 1337), and in Part 210 of the Commission's Rules of Practice and Procedure (19 CFR part 210).

By order of the Commission.
Issued: September 15, 2017.
Lisa R. Barton,
Secretary to the Commission.

[FR Doc. 2017-20100 Filed 9-20-17; 8:45 am]

BILLING CODE 7020-02-P